DEPARTMENT OF ENERGY

Federal Energy Regulatory Commission

Combined Notice of Filings #1

Take notice that the Commission received the following electric rate filings:

Docket Numbers: ER11-4534-003.

Applicants: Public Service Company of New Mexico.

Description: Public Service Company of New Mexico submits tariff filing per 35: Filing of Revised PSA to be effective 12/7/2012.

Filed Date: 12/10/12.

Accession Number: 20121210-5000.

Comments Due: 5 p.m. ET 12/31/12.

Docket Numbers: ER13-181-000.

Applicants: AEP Texas Central Company.

Description: TCC-South Texas EC IA Supplement to be effective N/A.

Filed Date: 12/7/12.

Accession Number: 20121207-5196.

Comments Due: 5 p.m. ET 12/28/12.

Docket Numbers: ER13-533-000.

Applicants: Wisconsin Public Service Corporation.

Description: WPSC Amendments to Tariff W-1A and Rate Schedule 87 to be effective 12/31/9998.

Filed Date: 12/7/12.

Accession Number: 20121207-5163.

Comments Due: 5 p.m. ET 12/28/12.

Docket Numbers: ER13-534-000.

Applicants: Mammoth One, LLC.

Description: Mammoth One, LLC submits tariff filing per 35.12: Petition of Mammoth One, LLC For Approval of Initial Market-Based Rate Tariff to be effective 2/1/2013.

Filed Date: 12/7/12.

Accession Number: 20121207-5219.

Comments Due: 5 p.m. ET 12/28/12.

Docket Numbers: ER13-535-000.

Applicants: PJM Interconnection, L.L.C.

Description: PJM Interconnection, L.L.C. submits tariff filing per 35.13(a)(2) (iii: Revisions to the PJM Tariff re 2012 Stakeholder Proposed MOPR Revisions to be effective 2/5/2013.

Filed Date: 12/7/12.

Accession Number: 20121207-5228.

Comments Due: 5 p.m. ET 12/28/12.

Docket Numbers: ER13-536-000.

Applicants: Midwest Independent Transmission System Operator, Inc.

Description: Midwest Independent Transmission System Operator, Inc. submits tariff filing per 35.13(a)(2) (iii: 12-7-12 MPMA Filing to be effective 10/1/2013.

Filed Date: 12/7/12.

Accession Number: 20121207-5232.

Comments Due: 5 p.m. ET 12/28/12.

Docket Numbers: ER13-537-000.

Applicants: MET Southwest Trading LLC.

Description: MET Southwest Trading LLC submits tariff filing per 35.12: MET Southwest Trading MBR Tariff to be effective 1/31/2013.

Filed Date: 12/10/12.

Accession Number: 20121210-5005.

Comments Due: 5 p.m. ET 12/31/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 10, 2012.
Nathaniel J. Davis, Sr.,
Deputy Secretary.

[FR Doc. 2012-30303 Filed 12-14-12; 8:45 am]

BILLING CODE 6717-01-P